NUCLEAR REGULATORY COMMISSION

Nuclear Byproduct Material Risk Review; Results of Survey of NRC and Agreement State Materials Licensing and Inspection Personnel

AGENCY: Nuclear Regulatory Commission.

ACTION: Notice of availability.

SUMMARY: The Nuclear Regulatory Commission (NRC) is announcing the availability of NUREG-1712, “Nuclear Byproduct Material Risk Review: Results of Survey of NRC and Agreement State Materials Licensing and Inspection Personnel.”

ADDRESSES: Copies of NUREG-1712 may be obtained by writing to the Superintendent of Documents, U.S. Government Printing Office, P.O. Box 37082, Washington, D.C. 20402-9328. Copies are also available from the National Technical Information Service, 5285 Port Royal Road, Springfield, Virginia 22161. A copy of the document is also available for inspection and/or copying for a fee in the NRC Public Document Room, 2120 L Street, NW. (Lower Level), Washington, D.C. 20555-0001.

FOR FURTHER INFORMATION CONTACT: Ms. Torre Taylor, Mail Stop TWFN 9-C-24, Division of Industrial and Medical Nuclear Safety, Office of Nuclear Material Safety and Safeguards, U.S. Nuclear Regulatory Commission, Washington, D.C. 20555, telephone: (301) 415-7900, e-mail: tmt@nrc.gov.

SUPPLEMENTARY INFORMATION: On August 25, 1999 (64 FR 46456), NRC published draft NUREG-1712, “Nuclear Byproduct Material Risk Review: Results of Survey of NRC and Agreement State Materials Licensing and Inspection Personnel” for public comment. All comments received during the comment period were considered in the preparation of the final NUREG report. The final version of NUREG-1712 is now available. The NUREG presents the results of a survey conducted of NRC and Agreement State materials licensing and inspection personnel concerning: (1) Typical annual doses to workers for the various systems defined for nuclear byproduct material uses; (2) safety of each system under various conditions; (3) the types and frequencies of incidents occurring at each system; (4) definitions of safety; and (5) opinions about the appropriate bases for regulatory decision making.

Electronic Access

NUREG-1712 will also be available at NRC's web site under Reference Library—Technical Reports or directly at http://www.nrc.gov/NRC/NUREGS/1712/index.html.

Dated at Rockville, Maryland, this 1st day of June, 2000.
For the Nuclear Regulatory Commission.
Patricia Holahan,
Chief, Rulemaking and Guidance Branch, Division of Industrial and Medical Nuclear Safety, NMSS.

[FR Doc. 00-14493 Filed 6-7-00; 8:45 am]

BILLING CODE 7590-01-P